ENVIRONMENTAL PROTECTION AGENCY

40 CFR Parts 52 and 81

[EPA-R05-OAR-2018-0839; FRL-10007-92-Region 5]

Air Plan Approval; Minnesota; Revision to the Minnesota State Implementation Plan

AGENCY: Environmental Protection Agency (EPA).

ACTION: Final rule.

SUMMARY: The Environmental Protection Agency (EPA) is approving a revision to the Minnesota State Implementation Plan (SIP) which updates Minnesota's air program rules. The Minnesota Pollution Control Agency (MPCA) submitted the request to EPA on November 14, 2018. The revision to Minnesota's air quality rules reflects changes that have been made to the State's air program rules since August 10, 2011, and updates on actions deferred from previous SIP submittals. EPA is approving the majority of MPCA's submittal, which will result in consistent requirements of rules at both the State and Federal level. EPA proposed to approve this action on February 5, 2020 and received no adverse comments.

DATES: This final rule is effective on August 26, 2020.

ADDRESSES: EPA has established a docket for this action under Docket ID No. EPA-R05-OAR-2018-0839. All documents in the docket are listed on the www.regulations.gov website. Although listed in the index, some information is not publicly available, i.e., Confidential Business Information (CBI) or other information whose disclosure is restricted by statute. Certain other material, such as copyrighted material, is not placed on the internet and will be publicly available only in hard copy form. Publicly available docket materials are available either through www.regulations.gov or at the Environmental Protection Agency, Region 5, Air and Radiation Division, 77 West Jackson Boulevard, Chicago, Illinois 60604. This facility is open from 8:30 a.m. to 4:30 p.m., Monday through Friday, excluding Federal holidays and facility closures due to COVID 19. We recommend that you telephone Emily Crispell, Environmental Scientist, at (312) 353-8512 before visiting the Region 5 office.

FOR FURTHER INFORMATION CONTACT: Emily Crispell, Environmental Scientist, Control Strategies, Air Programs Branch (AR-18J), Environmental Protection Agency, Region 5, 77 West Jackson Boulevard, Chicago, Illinois 60604, (312) 353-8512, crispell.emily@epa.gov.

SUPPLEMENTARY INFORMATION: Throughout this document whenever “we,” “us,” or “our” is used, we mean EPA.

I. Background Information

On February 5, 2020, EPA proposed to approve a revision to the Minnesota SIP, which included amendments to rules governing air emission permits, the removal of regulations unnecessary for Minnesota to attain and maintain the National Ambient Air Quality Standards, and the addition of new and previously deferred air program rules. 85 FR 6482. The notice of proposed rulemaking provided an explanation of the Clean Air Act (CAA) requirements, a detailed analysis of the revisions, and EPA's reasons for proposing approval. This action will not restate that information. The public comment period for this proposed rule ended on March 6, 2020.

During the comment period, EPA received only one comment. This comment, sent from an anonymous commenter, consists solely of quotes from the 2007 animated film Bee Movie. The comment is included in the docket for this action.

We do not consider this comment to be germane or relevant to this action and therefore not adverse to this action. The comment lacks the required specificity to the proposed SIP revision and the relevant requirements of CAA section 110. Moreover, the comment does not address a specific regulation or provision in question, nor recommends a different action on the SIP submission from what EPA proposed. Therefore, we are finalizing our action as proposed.

II. Final Action

A. Regulations Approved and Incorporated by Reference Into the SIP

EPA is approving and incorporating by reference into the Minnesota SIP at 40 CFR 52.1220(c)—the following rule sections (adoption date):

• Chapter 7000 Procedural Rules

7000.0300 (04/12/2004), 7000.5000 (04/12/2004)

• Chapter 7002 Permit Fees

7002.0005 (12/19/2016), 7002.0015 (08/05/1996)

• Chapter 7005 Definitions and Abbreviations

7005.0100 (12/19/2016), 7005.0110 (11/29/1993)

• Chapter 7007 Air Emission Permits

7007.0050 (12/24/2012), 7007.0100 (12/19/2016) [All except for paragraphs 9b through 9f, 12c, 24a and 24b], 7007.0250 (12/19/2016), 7007.0300 (12/19/2016), 7007.0350 (12/19/2016), 7007.0400 (12/12/2012), 7007.0450 (10/11/1993), 7007.0550 (10/11/1993), 7007.0600 (12/19/2016), 7007.0650 (12/19/2016), 7007.0700 (12/19/2016), 7007.0750 (12/19/2016) [Subparts 1-7 only], 7007.0800 (12/19/2016), 7007.0850 (12/12/1994), 7007.0900 (10/11/1993), 7007.0950 (12/19/2016), 7007.1000 (12/19/2016), 7007.1050 (12/24/2012), 7007.1100 (12/19/2016), 7007.1110 (12/24/2012), 7007.1115 (12/24/2012), 7007.1120 (12/24/2012), 7007.1125 (12/24/2012), 7007.1130 (12/24/2012), 7007.1140 (12/24/2012), 7007.1141 (12/24/2012), 7007.1142 (12/19/2016), 7007.1143 (11/29/2004), 7007.1144 (11/29/2004), 7007.1145 (12/24/2012), 7007.1146 (12/24/2012), 7007.1147 (11/29/2004), 7007.1148 (11/29/2004), 7007.1150 (12/19/2016), 7007.1200 (11/12/2007), 7007.1250 (12/19/2016), 7007.1300 (12/19/2016), 7007.1350 (12/19/2016), 7007.1400 (12/19/2016), 7007.1450 (12/24/2012), 7007.1500 (12/19/2016), 7007.1600 (12/19/2016), 7007.1650 (10/11/1993), 7007.1700 (10/11/1993), 7007.1750 (10/11/1993), 7007.1800 (10/11/1993), 7007.1850 (12/24/2012), 7007.3000 (11/19/2007), 7007.4000 (08/23/1993), 7007.4010 (05/24/2004), 7007.4020 (06/01/1999), 7007.4030 (08/23/1993), 7007.5000 (11/19/2007)

• Chapter 7008 Conditionally Exempt Stationary Sources and Conditionally Insignificant Activities

7008.0050 (04/23/2003), 7008.0100 (12/19/2020), 7008.0200 (04/21/2003), 7008.0300 (04/21/2003), 7008.2000 (04/21/2003), 7008.2100 (04/21/2003), 7008.2200 (04/21/2003), 7008.2250 (04/21/2003), 7008.4000 (12/19/2016), 7008.4100 (12/19/2016), 7008.4110 (12/19/2016)

• Chapter 7009 Ambient Air Quality Standards

7009.0010 (12/19/2016), 7009.0020 (12/19/2016), 7009.0050 (06/01/1999), 7009.0090 (12/19/2016), 7009.1000 (03/18/1996), 7009.1010 (08/23/1993), 7009.1020 (08/23/1993), 7009.1030 (08/23/1993), 7009.1040 (01/12/1998), 7009.1050 (08/23/1993), 7009.1060 (12/19/2016), 7009.1070 (08/23/1993), 7009.1080 (08/23/1993), 7009.1090 (08/23/1993), 7009.1100 (08/23/1993), 7009.1110 (08/23/1993), 7009.9000 (11/13/1995)

• Chapter 7011 Standards for Stationary Sources

7011.0010 (06/01/1999), 7011.0020 (08/23/1993), 7011.0060 (11/19/2007), 7011.0061 (11/19/2007), 7011.0065 (12/19/2016), 7011.0070 (12/19/2016), 7011.0072 (11/19/2007), 7011.0075 (11/19/2007), 7011.0080 (12/19/2016), 7011.0100 (08/23/1993), 7011.0105 (06/13/1998), 7011.0110 (01/12/1998), 7011.0115 (11/29/1993), 7011.0150 (03/18/1996), 7011.0500 (08/23/1993), 7011.0505 (08/23/1993), 7011.0510 (12/19/2016), 7011.0515 (12/19/2016), 7011.0520 (08/23/1993), 7011.0525 (08/23/1993), 7011.0530 (12/19/2016), 7011.0535 (12/19/2016), 7011.0540 (08/23/1993), 7011.0545 (08/23/1993), 7011.0550 (08/23/1993), 7011.0551 (09/22/2014), 7011.0553 (02/06/1995), 7011.0600 (08/23/1993), 7011.0605 (08/23/1993), 7011.0610 (12/19/2016), 7011.0615 (12/19/2016), 7011.0620 (12/19/2016), 7011.0625 (09/22/2014), 7011.0700 (08/23/1993), 7011.0705 (08/23/1993), 7011.0710 (12/19/2016), 7011.0715 (12/19/2016), 7011.0720 (12/19/2016), 7011.0730 (11/19/2007), 7011.0735 (08/23/1993), 7011.0850 (04/21/2003), 7011.0852 (11/23/1998), 7011.0854 (11/23/1998), 7011.0857 (11/23/1998), 7011.0858 (11/23/1998), 7011.0859 (11/23/1998), 7011.0865 (04/21/2003), 7011.0870 (04/21/2003), 7011.0900 (06/01/1999), 7011.0903 (03/04/1996), 7011.0905 (12/19/2016), 7011.0909 (03/04/1996), 7011.0911 (03/04/1996), 7011.0913 (05/24/2004), 7011.0917 (11/29/2004), 7011.0920 (03/04/1996), 7011.0922 (03/04/1996), 7011.1000 (08/23/1993), 7011.1005 (11/19/2007), 7011.1010 (01/12/1998), 7011.1015 (08/23/1993), 7011.1100 (08/23/1993), 7011.1105 (12/19/2016), 7011.1110 (01/12/1998), 7011.1115 (12/19/2016), 7011.1120 (08/23/1993), 7011.1125 (08/23/1993), 7011.1135 (12/19/2016), 7011.1140 (08/23/1993), 7011.1201 (10/11/2011), 7011.1205 (09/22/2014), 7011.1300 (08/23/1993), 7011.1305 (12/19/2016), 7011.1310 (12/19/2016), 7011.1315 (08/23/1993), 7011.1320 (12/19/2016), 7011.1325 (11/29/1993), 7011.1405 (12/19/2016), 7011.1410 (12/19/2016), 7011.1420 (03/01/1999), 7011.1425 (12/19/2016), 7011.1430 (11/29/1993), 7011.1500 (06/01/1999), 7011.1505 (08/23/1993), 7011.1510 (08/23/1993), 7011.1515 (08/23/1993), 7011.1600 (01/12/1998), 7011.1605 (08/23/1993), 7011.1615 (03/01/1999), 7011.1620 (08/23/1993), 7011.1625 (11/29/1993), 7011.1630 (11/29/1993), 7011.1700 (08/23/1993), 7011.1705 (01/12/1998), 7011.1715 (03/01/1999), 7011.1720 (08/23/1993), 7011.1725 (11/29/1993), 7011.2100 (08/23/1993), 7011.2105 (08/23/1993), 7011.2300 (08/23/1993)

• Chapter 7017 Monitoring and Testing Requirements

7017.0100 (02/21/1995), 7017.0200 (05/24/2004), 7017.1002 (12/19/2016), 7017.1004 (03/01/1999), 7017.1006 (03/01/1999), 7017.1010 (03/01/1999), 7017.1020 (02/06/1995), 7017.1030 (03/01/1999), 7017.1035 (03/01/1999), 7017.1040 (03/01/1999), 7017.1050 (03/01/1999), 7017.1060 (03/01/1999), 7017.1070 (03/01/1999), 7017.1080 (12/19/2016), 7017.1090 (03/01/1999), 7017.1100 (03/01/1999), 7017.1110 (12/19/2016), 7017.1120 (12/19/2016), 7017.1130 (03/01/1999), 7017.1135 (03/01/1999), 7017.1140 (03/01/1999), 7017.1150 (03/01/1999), 7017.1160 (03/01/1999), 7017.1170 (12/19/2016), 7017.1180 (03/01/1999), 7017.1185 (03/01/1999), 7017.1190 (03/01/1999), 7017.1200 (03/01/1999), 7017.1215 (12/19/2016), 7017.1220 (03/01/1999), 7017.2001 (12/19/2016), 7017.2005 (11/19/2007), 7017.2010 (03/04/1996), 7017.2015 (12/19/2016), 7017.2017 (12/19/2016), 7017.2020 (11/19/2007), 7017.2025 (12/19/2016), 7017.2030 (03/01/1999), 7017.2035 (12/19/2016), 7017.2040 (03/18/1996), 7017.2045 (07/13/1998), 7017.2050 (12/19/2016), 7017.2060 (12/19/2016)

• Chapter 7019 Emission Inventory Requirements

7019.1000 (06/01/1999), 7019.3000 (09/22/2014) [Subparts 1 and 2 only], 7019.3020 (12/19/2016), 7019.3030 (09/22/2014), 7019.3040 (03/01/1999), 7019.3050 (09/22/2014), 7019.3060 (08/05/1996), 7019.3070 (08/05/1996), 7019.3080 (11/19/2007), 7019.3090 (08/05/1996), 7019.3100 (08/05/1996)

• Minnesota Statutes

116.1100 (1983)

B. Regulations To Remove From the SIP

As discussed in the proposal for this action, we are removing from the SIP rule sections: 7001.0020, 7001.0050, 7001.0140, 7001.0180, 7001.0550, 7001.3050, 7007.1251, 7009.0060, 7009.0070, 7009.0080, 7011.0725, 7017.1210, and 7017.2018.

III. Incorporation by Reference

In this rule, EPA is finalizing regulatory text that includes incorporation by reference. In accordance with requirements of 1 CFR 51.5, EPA is finalizing the incorporation by reference of the Minnesota Regulations described in section II.A. of this preamble and removing the Minnesota Regulations listed in II.B. of this preamble. EPA has made, and will continue to make, the documents listed in II.A. generally available through www.regulations.gov, and at the EPA Region 5 Office (please contact the person identified in the FOR FURTHER INFORMATION CONTACT section of this preamble for more information). Therefore, these materials have been approved by EPA for inclusion in the SIP, have been incorporated by reference by EPA into that plan, are fully federally enforceable under sections 110 and 113 of the CAA as of the effective date of the final rulemaking of EPA's approval, and will be incorporated by reference in the next update to the SIP compilation.¹

¹ 62 FR 27968 (May 22, 1997).

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by September 25, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 81

Environmental protection, Air pollution control, National parks, Wilderness areas.

Dated: June 17, 2020.
Kurt Thiede,
Regional Administrator, Region 5.

Accordingly, 40 CFR parts 52 and 81 are amended as follows:

PART 52—APPROVAL AND PROMULGATION OF IMPLEMENTATION PLANS

1. The authority citation for part 52 continues to read as follows:

Authority: 42 U.S.C. 7401 et seq.

2. Section 52.1220 is amended by revising the table in paragraph (c) to read as follows:

§ 52.1220 Identification of plan.

* * * * *

(c) * * *

Table 1 to Paragraph (c)—EPA-Approved Minnesota Regulations
Minnesota citation | Title/subject | State adoption date | EPA approval date | Comments
CHAPTER 7000 PROCEDURAL RULES
7000.0300 | DUTY OF CANDOR | 04/12/2004 | 07/27/2020, [insert Federal Register citation].
7000.5000 | DECLARATION OF EMERGENCY | 04/12/2004 | 07/27/2020, [insert Federal Register citation].
CHAPTER 7002 PERMIT FEES
7002.0005 | SCOPE | 12/19/2016 | 07/27/2020, [insert Federal Register citation].
7002.0015 | DEFINITIONS | 08/05/1996 | 07/27/2020, [insert Federal Register citation].
CHAPTER 7005 DEFINITIONS AND ABBREVIATIONS
7005.0100 | DEFINITIONS | 12/19/2016 | 07/27/2020, [insert Federal Register citation].
7005.0110 | ABBREVIATIONS | 11/29/1993 | 07/27/2020, [insert Federal Register citation].
CHAPTER 7007 AIR EMISSION PERMITS
7007.0050 | SCOPE | 12/24/2012 | 07/27/2020, [insert Federal Register citation].
7007.0100 | DEFINITIONS | 12/19/2016 | 07/27/2020, [insert Federal Register citation]. | All except for paragraphs 9b through 9f, 12c, 24a and 24b.
7007.0150 | PERMIT REQUIRED | 12/27/1994 | 5/18/1999, 64 FR 26880.
7007.0200 | SOURCES REQUIRED OR ALLOWED TO OBTAIN A PART 70 PERMIT | 12/27/1994 | 5/18/1999, 64 FR 26880.
7007.0250 | SOURCES REQUIRED TO OBTAIN A STATE PERMIT | 12/19/2016 | 07/27/2020, [insert Federal Register citation].
7007.0300 | SOURCES NOT REQUIRED TO OBTAIN A PERMIT | 12/19/2016 | 07/27/2020, [insert Federal Register citation].
7007.0350 | EXISTING SOURCE APPLICATION DEADLINES AND SOURCE OPERATION DURING TRANSITION | 12/19/2016 | 07/27/2020, [insert Federal Register citation].
7007.0400 | PERMIT REISSUANCE APPLICATIONS AFTER TRANSITION; NEW SOURCE AND PERMIT AMENDMENT APPLICATIONS; APPLICATIONS FOR SOURCES NEWLY SUBJECT TO A PART 70 OR STATE PERMIT REQUIREMENT | 12/12/2012 | 07/27/2020, [insert Federal Register citation].
7007.0450 | PERMIT REISSUANCE APPLICATIONS AND CONTINUATION OF EXPIRING PERMITS | 10/11/1993 | 07/27/2020, [insert Federal Register citation].
7007.0500 | CONTENT OF PERMIT APPLICATION | 8/10/1993 | 5/2/1995, 60 FR 21447.
7007.0550 | CONFIDENTIAL INFORMATION | 10/11/1993 | 07/27/2020, [insert Federal Register citation].
7007.0600 | COMPLETE APPLICATION AND SUPPLEMENTAL INFORMATION REQUIREMENTS | 12/19/2016 | 07/27/2020, [insert Federal Register citation].
7007.0650 | WHO RECEIVES AN APPLICATION | 12/19/2016 | 07/27/2020, [insert Federal Register citation].
7007.0700 | COMPLETENESS REVIEW | 12/19/2016 | 07/27/2020, [insert Federal Register citation].
7007.0750 | APPLICATION PRIORITY AND ISSUANCE TIMELINES | 12/19/2016 | 07/27/2020, [insert Federal Register citation]. | Subparts 1-7 only.
7007.0800 | PERMIT CONTENT | 12/19/2016 | 07/27/2020, [insert Federal Register citation].
7007.0850 | PERMIT APPLICATION NOTICE AND COMMENT | 12/12/1994 | 07/27/2020, [insert Federal Register citation].
7007.0900 | REVIEW OF PART 70 PERMITS BY AFFECTED STATES | 10/11/1993 | 07/27/2020, [insert Federal Register citation].
7007.0950 | EPA REVIEW AND OBJECTION | 12/19/2016 | 07/27/2020, [insert Federal Register citation].
7007.1000 | PERMIT ISSUANCE AND DENIAL | 12/19/2016 | 07/27/2020, [insert Federal Register citation].
7007.1050 | DURATION OF PERMITS | 12/24/2012 | 07/27/2020, [insert Federal Register citation].
7007.1100 | GENERAL PERMITS | 12/19/2016 | 07/27/2020, [insert Federal Register citation].
7007.1110 | REGISTRATION PERMIT GENERAL REQUIREMENTS | 12/24/2012 | 07/27/2020, [insert Federal Register citation].
7007.1115 | REGISTRATION PERMIT OPTION A | 12/24/2012 | 07/27/2020, [insert Federal Register citation].
7007.1120 | REGISTRATION PERMIT OPTION B | 12/24/2012 | 07/27/2020, [insert Federal Register citation].
7007.1125 | REGISTRATION PERMIT OPTION C | 12/24/2012 | 07/27/2020, [insert Federal Register citation].
7007.1130 | REGISTRATION PERMIT OPTION D | 12/24/2012 | 07/27/2020, [insert Federal Register citation].
7007.1140 | CAPPED PERMIT ELIGIBILITY REQUIREMENTS | 12/24/2012 | 07/27/2020, [insert Federal Register citation].
7007.1141 | CAPPED PERMIT EMISSION THRESHOLDS | 12/24/2012 | 07/27/2020, [insert Federal Register citation].
7007.1142 | CAPPED PERMIT ISSUANCE AND CHANGE OF PERMIT STATUS | 12/19/2016 | 07/27/2020, [insert Federal Register citation].
7007.1143 | CAPPED PERMIT GENERAL REQUIREMENTS | 11/29/2004 | 07/27/2020, [insert Federal Register citation].
7007.1144 | CAPPED PERMIT PUBLIC PARTICIPATION | 11/29/2004 | 07/27/2020, [insert Federal Register citation].
7007.1145 | CAPPED PERMIT APPLICATION | 12/24/2012 | 07/27/2020, [insert Federal Register citation].
7007.1146 | CAPPED PERMIT COMPLIANCE REQUIREMENTS | 12/24/2012 | 07/27/2020, [insert Federal Register citation].
7007.1147 | CAPPED PERMIT CALCULATION OF ACTUAL EMISSIONS | 11/29/2004 | 07/27/2020, [insert Federal Register citation].
7007.1148 | AMBIENT AIR QUALITY ASSESSMENT | 11/29/2004 | 07/27/2020, [insert Federal Register citation].
7007.1150 | WHEN A PERMIT AMENDMENT IS REQUIRED | 12/19/2016 | 07/27/2020, [insert Federal Register citation].
7007.1200 | CALCULATING EMISSION CHANGES FOR PERMIT AMENDMENTS | 11/12/2007 | 07/27/2020, [insert Federal Register citation].
7007.1250 | INSIGNIFICANT MODIFICATIONS | 12/19/2016 | 07/27/2020, [insert Federal Register citation].
7007.1300 | INSIGNIFICANT ACTIVITIES LIST | 12/19/2016 | 07/27/2020, [insert Federal Register citation].
7007.1350 | CHANGES WHICH CONTRAVENE CERTAIN PERMIT TERMS | 12/19/2016 | 07/27/2020, [insert Federal Register citation].
7007.1400 | ADMINISTRATIVE PERMIT AMENDMENTS | 12/19/2016 | 07/27/2020, [insert Federal Register citation].
7007.1450 | MINOR AND MODERATE PERMIT AMENDMENTS | 12/24/2012 | 07/27/2020, [insert Federal Register citation].
7007.1500 | MAJOR PERMIT AMENDMENTS | 12/19/2016 | 07/27/2020, [insert Federal Register citation].
7007.1600 | PERMIT REOPENING AND AMENDMENT BY AGENCY | 12/19/2016 | 07/27/2020, [insert Federal Register citation].
7007.1650 | REOPENINGS FOR CAUSE BY EPA | 10/11/1993 | 07/27/2020, [insert Federal Register citation].
7007.1700 | PERMIT REVOCATION BY AGENCY | 10/11/1993 | 07/27/2020, [insert Federal Register citation].
7007.1750 | FEDERAL ENFORCEABILITY | 10/11/1993 | 07/27/2020, [insert Federal Register citation].
7007.1800 | PERMIT SHIELD | 10/11/1993 | 07/27/2020, [insert Federal Register citation].
7007.1850 | EMERGENCY PROVISION | 12/24/2012 | 07/27/2020, [insert Federal Register citation].
7007.3000 | PREVENTION OF SIGNIFICANT DETERIORATION OF AIR QUALITY | 11/19/2007 | 07/27/2020, [insert Federal Register citation].
OFFSETS
7007.4000 | SCOPE | 08/23/1993 | 07/27/2020, [insert Federal Register citation].
7007.4010 | DEFINITIONS | 05/24/2004 | 07/27/2020, [insert Federal Register citation].
7007.4020 | CONDITIONS FOR PERMIT | 06/01/1999 | 07/27/2020, [insert Federal Register citation].
7007.4030 | LIMITATION ON USE OF OFFSETS | 08/23/1993 | 07/27/2020, [insert Federal Register citation].
7007.5000 | BEST AVAILABLE RETROFIT TECHNOLOGY | 11/19/2007 | 07/27/2020, [insert Federal Register citation].
CHAPTER 7008 CONDITIONALLY EXEMPT STATIONARY SOURCES AND CONDITIONALLY INSIGNIFICANT ACTIVITIES
7008.0050 | SCOPE | 04/23/2003 | 07/27/2020, [insert Federal Register citation].
7008.0100 | DEFINITIONS | 12/19/2020 | 07/27/2020, [insert Federal Register citation].
7008.0200 | GENERAL REQUIREMENTS | 04/21/2003 | 07/27/2020, [insert Federal Register citation].
7008.0300 | PERMITS | 04/21/2003 | 07/27/2020, [insert Federal Register citation].
7008.2000 | CONDITIONALLY EXEMPT STATIONARY SOURCES; ELIGIBILITY | 04/21/2003 | 07/27/2020, [insert Federal Register citation].
7008.2100 | GASOLINE SERVICE STATIONS TECHNICAL STANDARDS | 04/21/2003 | 07/27/2020, [insert Federal Register citation].
7008.2200 | CONCRETE MANUFACTURING TECHNICAL STANDARDS | 04/21/2003 | 07/27/2020, [insert Federal Register citation].
7008.2250 | RECORD KEEPING FOR CONCRETE MANUFACTURING PLANTS | 04/21/2003 | 07/27/2020, [insert Federal Register citation].
7008.4000 | CONDITIONALLY INSIGNIFICANT ACTIVITIES | 12/19/2016 | 07/27/2020, [insert Federal Register citation].
7008.4100 | CONDITIONALLY INSIGNIFICANT MATERIAL USAGE | 12/19/2016 | 07/27/2020, [insert Federal Register citation].
7008.4110 | CONDITIONALLY INSIGNIFICANT PM AND PM-10 EMITTING OPERATIONS | 12/19/2016 | 07/27/2020, [insert Federal Register citation].
CHAPTER 7009 AMBIENT AIR QUALITY STANDARDS
7009.0010 | DEFINITIONS | 12/19/2016 | 07/27/2020, [insert Federal Register citation].
7009.0020 | PROHIBITED EMISSIONS | 12/19/2016 | 07/27/2020, [insert Federal Register citation].
7009.0050 | INTERPRETATION AND MEASUREMENT METHODOLOGY, EXCEPT FOR HYDROGEN SULFIDE | 06/01/1999 | 07/27/2020, [insert Federal Register citation].
7009.0090 | NATIONAL AMBIENT AIR QUALITY STANDARDS | 12/19/2016 | 07/27/2020, [insert Federal Register citation].
AIR POLLUTION EPISODES
7009.1000 | AIR POLLUTION EPISODES | 03/18/1996 | 07/27/2020, [insert Federal Register citation].
7009.1010 | DEFINITIONS | 08/23/1993 | 07/27/2020, [insert Federal Register citation].
7009.1020 | EPISODE LEVELS | 08/23/1993 | 07/27/2020, [insert Federal Register citation].
7009.1030 | EPISODE DECLARATION | 08/23/1993 | 07/27/2020, [insert Federal Register citation].
7009.1040 | CONTROL ACTIONS | 01/12/1998 | 07/27/2020, [insert Federal Register citation].
7009.1050 | EMERGENCY POWERS | 08/23/1993 | 07/27/2020, [insert Federal Register citation].
7009.1060 | TABLE 1 | 12/19/2016 | 07/27/2020, [insert Federal Register citation].
7009.1070 | TABLE 2: EMISSION REDUCTION OBJECTIVES FOR PARTICULATE MATTER | 08/23/1993 | 07/27/2020, [insert Federal Register citation].
7009.1080 | TABLE 3: EMISSION OBJECTIVES FOR SULFUR OXIDES | 08/23/1993 | 07/27/2020, [insert Federal Register citation].
7009.1090 | TABLE 4: EMISSION REDUCTION OBJECTIVES FOR NITROGEN OXIDES | 08/23/1993 | 07/27/2020, [insert Federal Register citation].
7009.1100 | TABLE 5: EMISSION REDUCTION OBJECTIVES FOR HYDROCARBONS | 08/23/1993 | 07/27/2020, [insert Federal Register citation].
7009.1110 | TABLE 6: EMISSION REDUCTION OBJECTIVES FOR CARBON MONOXIDE | 08/23/1993 | 07/27/2020, [insert Federal Register citation].
ADOPTION OF FEDERAL REGULATIONS
7009.9000 | DETERMINING CONFORMITY OF GENERAL FEDERAL ACTIONS TO STATE OR FEDERAL IMPLEMENTATION PLANS | 11/13/1995 | 07/27/2020, [insert Federal Register citation].
CHAPTER 7011 STANDARDS FOR STATIONARY SOURCES
7011.0010 | APPLICABILITY OF STANDARDS OF PERFORMANCE | 06/01/1999 | 07/27/2020, [insert Federal Register citation].
7011.0020 | CIRCUMVENTION | 08/23/1993 | 07/27/2020, [insert Federal Register citation].
CONTROL EQUIPMENT
7011.0060 | DEFINITIONS | 11/19/2007 | 07/27/2020, [insert Federal Register citation].
7011.0061 | INCORPORATION BY REFERENCE | 11/19/2007 | 07/27/2020, [insert Federal Register citation].
7011.0065 | APPLICABILITY | 12/19/2016 | 07/27/2020, [insert Federal Register citation].
7011.0070 | LISTED CONTROL EQUIPMENT AND CONTROL EQUIPMENT EFFICIENCIES | 12/19/2016 | 07/27/2020, [insert Federal Register citation].
7011.0072 | REQUIREMENTS FOR CERTIFIED HOODS | 11/19/2007 | 07/27/2020, [insert Federal Register citation].
7011.0075 | LISTED CONTROL EQUIPMENT GENERAL REQUIREMENTS | 11/19/2007 | 07/27/2020, [insert Federal Register citation].
7011.0080 | MONITORING AND RECORD KEEPING FOR LISTED CONTROL EQUIPMENT | 12/19/2016 | 07/27/2020, [insert Federal Register citation].
EMISSION STANDARDS FOR VISIBLE AIR CONTAMINANTS
7011.0100 | SCOPE | 08/23/1993 | 07/27/2020, [insert Federal Register citation].
7011.0105 | VISIBLE EMISSION RESTRICTIONS FOR EXISTING FACILITIES | 06/13/1998 | 07/27/2020, [insert Federal Register citation].
7011.0110 | VISIBLE EMISSION RESTRICTIONS FOR NEW FACILITIES | 01/12/1998 | 07/27/2020, [insert Federal Register citation].
7011.0115 | PERFORMANCE TESTS | 11/29/1993 | 07/27/2020, [insert Federal Register citation].
CONTROLLING FUGITIVE PARTICULATE MATTER
7011.0150 | PREVENTING PARTICULATE MATTER FROM BECOMING AIRBORNE | 03/18/1996 | 07/27/2020, [insert Federal Register citation].
INDIRECT HEATING FOSSIL-FUEL-BURNING EQUIPMENT
7011.0500 | DEFINITIONS | 08/23/1993 | 07/27/2020, [insert Federal Register citation].
7011.0505 | DETERMINATION OF APPLICABLE STANDARDS OF PERFORMANCE | 08/23/1993 | 07/27/2020, [insert Federal Register citation].
7011.0510 | STANDARDS OF PERFORMANCE FOR EXISTING INDIRECT HEATING EQUIPMENT | 12/19/2016 | 07/27/2020, [insert Federal Register citation].
7011.0515 | STANDARDS OF PERFORMANCE FOR NEW INDIRECT HEATING EQUIPMENT | 12/19/2016 | 07/27/2020, [insert Federal Register citation].
7011.0520 | ALLOWANCE FOR STACK HEIGHT FOR INDIRECT HEATING EQUIPMENT | 08/23/1993 | 07/27/2020, [insert Federal Register citation].
7011.0525 | HIGH HEATING VALUE | 08/23/1993 | 07/27/2020, [insert Federal Register citation].
7011.0530 | PERFORMANCE TEST METHODS | 12/19/2016 | 07/27/2020, [insert Federal Register citation].
7011.0535 | PERFORMANCE TEST PROCEDURES | 12/19/2016 | 07/27/2020, [insert Federal Register citation].
7011.0540 | DERATE | 08/23/1993 | 07/27/2020, [insert Federal Register citation].
7011.0545 | TABLE I: EXISTING INDIRECT HEATING EQUIPMENT | 08/23/1993 | 07/27/2020, [insert Federal Register citation].
7011.0550 | TABLE II: NEW INDIRECT HEATING EQUIPMENT | 08/23/1993 | 07/27/2020, [insert Federal Register citation].
7011.0551 | RECORD KEEPING AND REPORTING FOR INDIRECT HEATING UNITS COMBUSTING SOLID WASTE | 09/22/2014 | 07/27/2020, [insert Federal Register citation].
7011.0553 | NITROGEN OXIDES EMISSION REDUCTION REQUIREMENTS FOR AFFECTED SOURCES | 02/06/1995 | 07/27/2020, [insert Federal Register citation].
DIRECT HEATING FOSSIL-FUEL-BURNING EQUIPMENT
7011.0600 | DEFINITIONS | 08/23/1993 | 07/27/2020, [insert Federal Register citation].
7011.0605 | DETERMINATION OF APPLICABLE STANDARDS OF PERFORMANCE | 08/23/1993 | 07/27/2020, [insert Federal Register citation].
7011.0610 | STANDARDS OF PERFORMANCE FOR FOSSIL-FUEL-BURNING DIRECT HEATING EQUIPMENT | 12/19/2016 | 07/27/2020, [insert Federal Register citation].
7011.0615 | PERFORMANCE TEST METHODS | 12/19/2016 | 07/27/2020, [insert Federal Register citation].
7011.0620 | PERFORMANCE TEST PROCEDURES | 12/19/2016 | 07/27/2020, [insert Federal Register citation].
7011.0625 | RECORD KEEPING AND REPORTING FOR DIRECT HEATING UNITS COMBUSTING SOLID WASTE | 09/22/2014 | 07/27/2020, [insert Federal Register citation].
INDUSTRIAL PROCESS EQUIPMENT
7011.0700 | DEFINITIONS | 08/23/1993 | 07/27/2020, [insert Federal Register citation].
7011.0705 | SCOPE | 08/23/1993 | 07/27/2020, [insert Federal Register citation].
7011.0710 | STANDARDS OF PERFORMANCE FOR PRE-1969 INDUSTRIAL PROCESS EQUIPMENT | 12/19/2016 | 07/27/2020, [insert Federal Register citation].
7011.0715 | STANDARDS OF PERFORMANCE FOR POST-1969 INDUSTRIAL PROCESS EQUIPMENT | 12/19/2016 | 07/27/2020, [insert Federal Register citation].
7011.0720 | PERFORMANCE TEST METHODS | 12/19/2016 | 07/27/2020, [insert Federal Register citation].
7011.0730 | TABLE 1 | 11/19/2007 | 07/27/2020, [insert Federal Register citation].
7011.0735 | TABLE 2 | 08/23/1993 | 07/27/2020, [insert Federal Register citation].
CONCRETE MANUFACTURING PLANT STANDARDS OF PERFORMANCE
7011.0850 | DEFINITIONS | 04/21/2003 | 07/27/2020, [insert Federal Register citation].
7011.0852 | STANDARDS OF PERFORMANCE FOR CONCRETE MANUFACTURING PLANTS | 11/23/1998 | 07/27/2020, [insert Federal Register citation].
7011.0854 | CONCRETE MANUFACTURING PLANT CONTROL EQUIPMENT REQUIREMENTS | 11/23/1998 | 07/27/2020, [insert Federal Register citation].
7011.0857 | PREVENTING PARTICULATE MATTER FROM BECOMING AIRBORNE | 11/23/1998 | 07/27/2020, [insert Federal Register citation].
7011.0858 | NOISE | 11/23/1998 | 07/27/2020, [insert Federal Register citation].
7011.0859 | SHUTDOWN AND BREAKDOWN PROCEDURES | 11/23/1998 | 07/27/2020, [insert Federal Register citation].
7011.0865 | INCORPORATIONS BY REFERENCE | 04/21/2003 | 07/27/2020, [insert Federal Register citation].
7011.0870 | STAGE-ONE VAPOR RECOVERY | 04/21/2003 | 07/27/2020, [insert Federal Register citation].
HOT MIX ASPHALT PLANTS
7011.0900 | DEFINITIONS | 06/01/1999 | 07/27/2020, [insert Federal Register citation].
7011.0903 | COMPLIANCE WITH AMBIENT AIR QUALITY STANDARDS | 03/04/1996 | 07/27/2020, [insert Federal Register citation].
7011.0905 | STANDARDS OF PERFORMANCE FOR EXISTING ASPHALT CONCRETE PLANTS | 12/19/2016 | 07/27/2020, [insert Federal Register citation].
7011.0909 | STANDARDS OF PERFORMANCE FOR NEW HOT MIX ASPHALT PLANTS | 03/04/1996 | 07/27/2020, [insert Federal Register citation].
7011.0911 | MAINTENANCE OF DRYER BURNER | 03/04/1996 | 07/27/2020, [insert Federal Register citation].
7011.0913 | HOT MIX ASPHALT PLANT MATERIALS, FUELS, AND ADDITIVES OPERATING REQUIREMENTS | 05/24/2004 | 07/27/2020, [insert Federal Register citation].
7011.0917 | ASPHALT PLANT CONTROL EQUIPMENT REQUIREMENTS | 11/29/2004 | 07/27/2020, [insert Federal Register citation].
7011.0920 | PERFORMANCE TESTS | 03/04/1996 | 07/27/2020, [insert Federal Register citation].
7011.0922 | OPERATIONAL REQUIREMENTS AND LIMITATIONS FROM PERFORMANCE TESTS | 03/04/1996 | 07/27/2020, [insert Federal Register citation].
BULK AGRICULTURAL COMMODITY FACILITIES
7011.1000 | DEFINITIONS | 08/23/1993 | 07/27/2020, [insert Federal Register citation].
7011.1005 | STANDARDS OF PERFORMANCE FOR DRY BULK AGRICULTURAL COMMODITY FACILITIES | 11/19/2007 | 07/27/2020, [insert Federal Register citation].
7011.1010 | NUISANCE | 01/12/1998 | 07/27/2020, [insert Federal Register citation].
7011.1015 | CONTROL REQUIREMENTS SCHEDULE | 08/23/1993 | 07/27/2020, [insert Federal Register citation].
COAL HANDLING FACILITIES
7011.1100 | DEFINITIONS | 08/23/1993 | 07/27/2020, [insert Federal Register citation].
7011.1105 | STANDARDS OF PERFORMANCE FOR CERTAIN COAL HANDLING FACILITIES | 12/19/2016 | 07/27/2020, [insert Federal Register citation].
7011.1110 | STANDARDS OF PERFORMANCE FOR EXISTING OUTSTATE COAL HANDLING FACILITIES | 01/12/1998 | 07/27/2020, [insert Federal Register citation].
7011.1115 | STANDARDS OF PERFORMANCE FOR PNEUMATIC COAL-CLEANING EQUIPMENT AND THERMAL DRYERS AT ANY COAL HANDLING FACILITY | 12/19/2016 | 07/27/2020, [insert Federal Register citation].
7011.1120 | EXEMPTION | 08/23/1993 | 07/27/2020, [insert Federal Register citation].
7011.1125 | CESSATION OF OPERATIONS | 08/23/1993 | 07/27/2020, [insert Federal Register citation].
7011.1135 | PERFORMANCE TEST PROCEDURES | 12/19/2016 | 07/27/2020, [insert Federal Register citation].
7011.1140 | DUST SUPPRESSANT AGENTS | 08/23/1993 | 07/27/2020, [insert Federal Register citation].
WASTE COMBUSTORS
7011.1201 | DEFINITIONS | 10/11/2011 | 07/27/2020, [insert Federal Register citation].
7011.1205 | INCORPORATIONS BY REFERENCE | 09/22/2014 | 07/27/2020, [insert Federal Register citation].
INCINERATORS
7011.1300 | DEFINITIONS | 08/23/1993 | 07/27/2020, [insert Federal Register citation].
7011.1305 | STANDARDS OF PERFORMANCE FOR EXISTING SEWAGE SLUDGE INCINERATORS | 12/19/2016 | 07/27/2020, [insert Federal Register citation].
7011.1310 | STANDARDS OF PERFORMANCE FOR NEW SEWAGE SLUDGE INCINERATORS | 12/19/2016 | 07/27/2020, [insert Federal Register citation].
7011.1315 | MONITORING OF OPERATIONS | 08/23/1993 | 07/27/2020, [insert Federal Register citation].
7011.1320 | PERFORMANCE TEST METHODS | 12/19/2016 | 07/27/2020, [insert Federal Register citation].
7011.1325 | PERFORMANCE TEST PROCEDURES | 11/29/1993 | 07/27/2020, [insert Federal Register citation].
PETROLEUM REFINERIES
7011.1400 | DEFINITIONS | 10/18/1993 | 5/24/1995, 60 FR 27411.
7011.1405 | STANDARDS OF PERFORMANCE FOR EXISTING AFFECTED FACILITIES AT PETROLEUM REFINERIES | 12/19/2016 | 07/27/2020, [insert Federal Register citation].
7011.1410 | STANDARDS OF PERFORMANCE FOR NEW AFFECTED FACILITIES AT PETROLEUM REFINERIES | 12/19/2016 | 07/27/2020, [insert Federal Register citation].
7011.1415 | EXEMPTIONS | 01/12/1998 | 8/10/2011, 76 FR 49303.
7011.1420 | EMISSION MONITORING | 03/01/1999 | 07/27/2020, [insert Federal Register citation].
7011.1425 | PERFORMANCE TEST METHODS | 12/19/2016 | 07/27/2020, [insert Federal Register citation].
7011.1430 | PERFORMANCE TEST PROCEDURES | 11/29/1993 | 07/27/2020, [insert Federal Register citation].
LIQUID PETROLEUM AND VOLATILE ORGANIC LIQUID STORAGE VESSELS
7011.1500 | DEFINITIONS | 06/01/1999 | 07/27/2020, [insert Federal Register citation].
7011.1505 | STANDARDS OF PERFORMANCE FOR STORAGE VESSELS | 08/23/1993 | 07/27/2020, [insert Federal Register citation].
7011.1510 | MONITORING OF OPERATIONS | 08/23/1993 | 07/27/2020, [insert Federal Register citation].
7011.1515 | EXCEPTION | 08/23/1993 | 07/27/2020, [insert Federal Register citation].
SULFURIC ACID PLANTS
7011.1600 | DEFINITIONS | 01/12/1998 | 07/27/2020, [insert Federal Register citation].
7011.1605 | STANDARDS OF PERFORMANCE OF EXISTING SULFURIC ACID PRODUCTION UNITS | 08/23/1993 | 07/27/2020, [insert Federal Register citation].
7011.1615 | CONTINUOUS EMISSION MONITORING | 03/01/1999 | 07/27/2020, [insert Federal Register citation].
7011.1620 | PERFORMANCE TEST METHODS | 08/23/1993 | 07/27/2020, [insert Federal Register citation].
7011.1625 | PERFORMANCE TEST PROCEDURES | 11/29/1993 | 07/27/2020, [insert Federal Register citation].
7011.1630 | EXCEPTIONS | 11/29/1993 | 07/27/2020, [insert Federal Register citation].
NITRIC ACID PLANTS
7011.1700 | DEFINITIONS | 08/23/1993 | 07/27/2020, [insert Federal Register citation].
7011.1705 | STANDARDS OF PERFORMANCE FOR EXISTING NITRIC ACID PRODUCTION UNITS | 01/12/1998 | 07/27/2020, [insert Federal Register citation].
7011.1715 | EMISSION MONITORING | 03/01/1999 | 07/27/2020, [insert Federal Register citation].
7011.1720 | PERFORMANCE TEST METHODS | 08/23/1993 | 07/27/2020, [insert Federal Register citation].
7011.1725 | PERFORMANCE TEST PROCEDURES | 11/29/1993 | 07/27/2020, [insert Federal Register citation].
EMISSION STANDARDS FOR INORGANIC FIBROUS MATERIALS
7011.2100 | DEFINITIONS | 08/23/1993 | 07/27/2020, [insert Federal Register citation].
7011.2105 | SPRAYING OF INORGANIC FIBROUS MATERIALS | 08/23/1993 | 07/27/2020, [insert Federal Register citation].
STATIONARY INTERNAL COMBUSTION ENGINES
7011.2300 | STANDARDS OF PERFORMANCE FOR STATIONARY INTERNAL COMBUSTION ENGINES | 08/23/1993 | 07/27/2020, [insert Federal Register citation].
CHAPTER 7017 MONITORING AND TESTING REQUIREMENTS
7017.0100 | ESTABLISHING VIOLATIONS | 02/21/1995 | 07/27/2020, [insert Federal Register citation].
COMPLIANCE ASSURANCE MONITORING
7017.0200 | INCORPORATION BY REFERENCE | 05/24/2004 | 07/27/2020, [insert Federal Register citation].
CONTINUOUS MONITORING SYSTEMS
7017.1002 | DEFINITIONS | 12/19/2016 | 07/27/2020, [insert Federal Register citation].
7017.1004 | APPLICABILITY | 03/01/1999 | 07/27/2020, [insert Federal Register citation].
7017.1006 | REQUIREMENT TO INSTALL MONITOR | 03/01/1999 | 07/27/2020, [insert Federal Register citation].
7017.1010 | INCORPORATION OF FEDERAL MONITORING REQUIREMENTS BY REFERENCE | 03/01/1999 | 07/27/2020, [insert Federal Register citation].
7017.1020 | CONTINUOUS EMISSION MONITORING BY AFFECTED SOURCES | 02/06/1995 | 07/27/2020, [insert Federal Register citation].
7017.1030 | AGENCY ACCESS TO WITNESS OR CONDUCT TESTS | 03/01/1999 | 07/27/2020, [insert Federal Register citation].
7017.1035 | TESTING REQUIRED | 03/01/1999 | 07/27/2020, [insert Federal Register citation].
7017.1040 | INSTALLATION REQUIREMENTS | 03/01/1999 | 07/27/2020, [insert Federal Register citation].
7017.1050 | MONITOR CERTIFICATION AND RECERTIFICATION TEST | 03/01/1999 | 07/27/2020, [insert Federal Register citation].
7017.1060 | PRECERTIFICATION TEST REQUIREMENTS | 03/01/1999 | 07/27/2020, [insert Federal Register citation].
7017.1070 | CERTIFICATION TEST PROCEDURES | 03/01/1999 | 07/27/2020, [insert Federal Register citation].
7017.1080 | CERTIFICATION TEST REPORT REQUIREMENTS | 12/19/2016 | 07/27/2020, [insert Federal Register citation].
7017.1090 | MONITOR OPERATIONAL REQUIREMENTS | 03/01/1999 | 07/27/2020, [insert Federal Register citation].
7017.1100 | EVIDENCE OF NONCOMPLIANCE | 03/01/1999 | 07/27/2020, [insert Federal Register citation].
7017.1110 | EXCESS EMISSIONS REPORTS | 12/19/2016 | 07/27/2020, [insert Federal Register citation].
7017.1120 | SUBMITTALS | 12/19/2016 | 07/27/2020, [insert Federal Register citation].
7017.1130 | RECORD KEEPING | 03/01/1999 | 07/27/2020, [insert Federal Register citation].
7017.1135 | APPLICABILITY | 03/01/1999 | 07/27/2020, [insert Federal Register citation].
7017.1140 | CEMS DESIGN REQUIREMENTS | 03/01/1999 | 07/27/2020, [insert Federal Register citation].
7017.1150 | CEMS TESTING COMPANY REQUIREMENT | 03/01/1999 | 07/27/2020, [insert Federal Register citation].
7017.1160 | CEMS MONITORING DATA | 03/01/1999 | 07/27/2020, [insert Federal Register citation].
7017.1170 | QUALITY ASSURANCE AND CONTROL REQUIREMENTS FOR CEMS | 12/19/2016 | 07/27/2020, [insert Federal Register citation].
7017.1180 | QUALITY CONTROL REPORTING AND NOTIFICATION REQUIREMENTS FOR CEMS | 03/01/1999 | 07/27/2020, [insert Federal Register citation].
7017.1185 | APPLICABILITY | 03/01/1999 | 07/27/2020, [insert Federal Register citation].
7017.1190 | COMS DESIGN REQUIREMENTS | 03/01/1999 | 07/27/2020, [insert Federal Register citation].
7017.1200 | COMS MONITORING DATA | 03/01/1999 | 07/27/2020, [insert Federal Register citation].
7017.1215 | QUALITY ASSURANCE AND CONTROL REQUIREMENTS FOR COMS | 12/19/2016 | 07/27/2020, [insert Federal Register citation].
7017.1220 | QUALITY ASSURANCE AND CONTROL REPORTING REQUIREMENTS FOR COMS | 03/01/1999 | 07/27/2020, [insert Federal Register citation].
PERFORMANCE TESTS
7017.2001 | APPLICABILITY | 12/19/2016 | 07/27/2020, [insert Federal Register citation].
7017.2005 | DEFINITIONS | 11/19/2007 | 07/27/2020, [insert Federal Register citation].
7017.2010 | INCORPORATION OF TEST METHODS BY REFERENCE | 03/04/1996 | 07/27/2020, [insert Federal Register citation].
7017.2015 | INCORPORATION OF FEDERAL TESTING REQUIREMENTS BY REFERENCE | 12/19/2016 | 07/27/2020, [insert Federal Register citation].
7017.2017 | SUBMITTALS | 12/19/2016 | 07/27/2020, [insert Federal Register citation].
7017.2020 | PERFORMANCE TESTS GENERAL REQUIREMENTS | 11/19/2007 | 07/27/2020, [insert Federal Register citation].
7017.2025 | OPERATIONAL REQUIREMENTS AND LIMITATIONS | 12/19/2016 | 07/27/2020, [insert Federal Register citation].
7017.2030 | PERFORMANCE TEST PRETEST REQUIREMENTS | 03/01/1999 | 07/27/2020, [insert Federal Register citation].
7017.2035 | PERFORMANCE TEST REPORTING REQUIREMENTS | 12/19/2016 | 07/27/2020, [insert Federal Register citation].
7017.2040 | CERTIFICATION OF PERFORMANCE TEST RESULTS | 03/18/1996 | 07/27/2020, [insert Federal Register citation].
7017.2045 | QUALITY ASSURANCE REQUIREMENTS | 07/13/1998 | 07/27/2020, [insert Federal Register citation].
7017.2050 | PERFORMANCE TEST METHODS | 12/19/2016 | 07/27/2020, [insert Federal Register citation].
7017.2060 | PERFORMANCE TEST PROCEDURES | 12/19/2016 | 07/27/2020, [insert Federal Register citation].
CHAPTER 7019 EMISSION INVENTORY REQUIREMENTS
7019.1000 | SHUTDOWNS AND BREAKDOWNS | 06/01/1999 | 07/27/2020, [insert Federal Register citation].
7019.3000 | EMISSION INVENTORY | 09/22/2014 | 07/27/2020, [insert Federal Register citation]. | Subparts 1 and 2 only
7019.3020 | CALCULATION OF ACTUAL EMISSIONS FOR EMISSION INVENTORY | 12/19/2016 | 07/27/2020, [insert Federal Register citation].
7019.3030 | METHOD OF CALCULATION | 09/22/2014 | 07/27/2020, [insert Federal Register citation].
7019.3040 | CONTINUOUS EMISSION MONITOR (CEM) DATA | 03/01/1999 | 07/27/2020, [insert Federal Register citation].
7019.3050 | PERFORMANCE TEST DATA | 09/22/2014 | 07/27/2020, [insert Federal Register citation].
7019.3060 | VOLATILE ORGANIC COMPOUND (VOC) MATERIAL BALANCE | 08/05/1996 | 07/27/2020, [insert Federal Register citation].
7019.3070 | SO2 MATERIAL BALANCE | 08/05/1996 | 07/27/2020, [insert Federal Register citation].
7019.3080 | EMISSION FACTORS | 11/19/2007 | 07/27/2020, [insert Federal Register citation].
7019.3090 | ENFORCEABLE LIMITATIONS | 08/05/1996 | 07/27/2020, [insert Federal Register citation].
7019.3100 | FACILITY PROPOSAL | 08/05/1996 | 07/27/2020, [insert Federal Register citation].
CHAPTER 7023 MOBILE AND INDIRECT SOURCES
7023.0100 | DEFINITIONS | 10/18/1993 | 5/24/1995, 60 FR 27411.
7023.0105 | STANDARDS OF PERFORMANCE FOR MOTOR VEHICLES | 10/18/1993 | 5/24/1995, 60 FR 27411.
7023.0110 | STANDARDS OF PERFORMANCE FOR TRAINS, BOATS, AND CONSTRUCTION EQUIPMENT | 10/18/1993 | 5/24/1995, 60 FR 27411.
7023.0115 | EXEMPTION | 10/18/1993 | 5/24/1995, 60 FR 27411.
7023.0120 | AIR POLLUTION CONTROL SYSTEMS RESTRICTIONS | 10/18/1993 | 5/24/1995, 60 FR 27411.
7023.1010 | DEFINITIONS | 01/08/1994 | 10/29/1999, 64 FR 58344.
7023.1015 | INSPECTION REQUIREMENT | 01/08/1994 | 10/29/1999, 64 FR 58344.
7023.1020 | DESCRIPTION OF INSPECTION AND DOCUMENTS REQUIRED | 01/08/1994 | 10/29/1999, 64 FR 58344.
7023.1025 | TAMPERING INSPECTION | 01/08/1994 | 10/29/1999, 64 FR 58344.
7023.1030 | EXHAUST EMISSION TEST | 01/08/1994 | 10/29/1999, 64 FR 58344.
7023.1035 | REINSPECTIONS | 01/08/1994 | 10/29/1999, 64 FR 58344.
7023.1040 | VEHICLE INSPECTION REPORT | 01/08/1994 | 10/29/1999, 64 FR 58344.
7023.1045 | CERTIFICATE OF COMPLIANCE | 01/08/1994 | 10/29/1999, 64 FR 58344.
7023.1050 | VEHICLE NONCOMPLIANCE AND REPAIR | 01/08/1994 | 10/29/1999, 64 FR 58344.
7023.1055 | CERTIFICATE OF WAIVER | 01/08/1994 | 10/29/1999, 64 FR 58344.
7023.1060 | EMISSION CONTROL EQUIPMENT INSPECTION AS A CONDITION OF WAIVER | 01/08/1994 | 10/29/1999, 64 FR 58344.
7023.1065 | REPAIR COST LIMIT AND LOW EMISSION ADJUSTMENT | 01/08/1994 | 10/29/1999, 64 FR 58344.
7023.1070 | CERTIFICATE OF TEMPORARY EXTENSION, CERTIFICATE OF ANNUAL EXEMPTION, AND CERTIFICATE OF EXEMPTION | 01/08/1994 | 10/29/1999, 64 FR 58344.
7023.1075 | EVIDENCE OF MEETING STATE INSPECTION REQUIREMENTS | 01/08/1994 | 10/29/1999, 64 FR 58344.
7023.1080 | FLEET INSPECTION STATION PERMITS, PROCEDURES, AND INSPECTION | 01/08/1994 | 10/29/1999, 64 FR 58344.
7023.1085 | INSPECTION STATIONS TESTING FLEET VEHICLES | 01/08/1994 | 10/29/1999, 64 FR 58344.
7023.1090 | EXHAUST GAS ANALYZER SPECIFICATIONS; CALIBRATION AND QUALITY CONTROL | 01/08/1994 | 10/29/1999, 64 FR 58344.
7023.1100 | PUBLIC NOTIFICATION | 01/08/1994 | 10/29/1999, 64 FR 58344.
7023.1105 | INSPECTION FEES | 01/08/1994 | 10/29/1999, 64 FR 58344.
MINNESOTA STATUTES
10A.07 | CONFLICTS OF INTEREST | 05/25/2013 | 11/2/2017, 82 FR 50807.
10A.09 | STATEMENTS OF ECONOMIC INTEREST | 05/23/2015 | 11/2/2017, 82 FR 50807.
17.135 | FARM DISPOSAL OF SOLID WASTE | 1993 | 5/24/1995, 60 FR 27411. | Only item (a).
88.01 | DEFINITIONS | 1993 | 5/24/1995, 60 FR 27411. | Only Subd. 1, 2, 3, 4, 6, 14, 20, 23, 24, 25, and 26.
88.02 | CITATION, WILDFIRE ACT | 1993 | 5/24/1995, 60 FR 27411.
88.03 | CODIFICATION | 1993 | 5/24/1995, 60 FR 27411.
88.16 | STARTING FIRES; BURNERS; FAILURE TO REPORT A FIRE | 1993 | 5/24/1995, 60 FR 27411. | Only Subd. 1 and 2.
88.17 | PERMISSION TO START FIRES; PROSECUTION FOR UNLAWFULLY STARTING FIRES | 1993 | 5/24/1995, 60 FR 27411.
88.171 | OPEN BURNING PROHIBITIONS | 1993 | 5/24/1995, 60 FR 27411. | Only Subd. 1, 2, 5, 6, 7, 8, 9, and 10.
116.11 | EMERGENCY POWERS | 1983 | 07/27/2020, [insert Federal Register citation].
TWIN CITIES NONATTAINMENT AREA FOR CARBON MONOXIDE
116.60 |  | 1999 | 10/29/1999, 64 FR 58344 | Only Subd. 12.
116.61 |  | 1999 | 10/29/1999, 64 FR 58344 | Only Subd. 1 and 3.
116.62 |  | 1999 | 10/29/1999, 64 FR 58344 | Only Subd. 2, 3, 5, and 10.
116.63 |  | 1999 | 10/29/1999, 64 FR 58344 | Only Subd. 4.

* * * * *

PART 81—DESIGNATION OF AREAS FOR AIR QUALITY PLANNING PURPOSES

3. The authority citation for part 81 continues to read as follows:

Authority: 42 U.S.C. 7401, et seq.

4. Section 81.324 is amended by revising the entry “Otter Tail County” in the table entitled “MINNESOTA—PM-10” to read as follows:

§ 81.324 Minnesota.

* * * * *

Minnesota—PM-10
Designated area | Designation: Date ¹ | Designation: Type | Classification: Date ¹ | Classification: Type
* * * * * * *
Otter Tail County |  | Unclassifiable/Attainment.
* * * * * * *
¹ This date is November 15, 1990, unless otherwise noted.

* * * * *

[FR Doc. 2020-13469 Filed 7-24-20; 8:45 am]

BILLING CODE 6560-50-P